DEPARTMENT OF TRANSPORTATION

Federal Aviation Administration

Eleventh Joint Meeting, RTCA Special Committee 205/EUROCAE Working Group 71: Software Considerations in Aeronautical Systems

AGENCY: Federal Aviation Administration (FAA), DOT.

ACTION: Notice of RTCA Special Committee 205/EUROCAE Working Group 71 meeting.

SUMMARY: The FAA is issuing this notice to advise the public of a meeting of RTCA Special Committee 205/EUROCAE Working Group 71: Software Considerations in Aeronautical Systems.

DATES: The meeting will be held June 22-26, 2009, from 8:30 a.m.-5:30 p.m.

ADDRESSES: The meeting will be held at Legislative Office Building, 300 Capitol Avenue, Hartford, Connecticut 06106, United States, Telephone: 1-860-240-0100.

FOR FURTHER INFORMATION CONTACT: (1) RTCA Secretariat, 1828 L Street, NW., Suite 805, Washington, DC 20036; telephone (202) 833-9339; fax (202) 833-9434; Web site http://www.rtca.org; (2) Hotel Front Desk: (602) 273-7778; fax (602) 275-5616.

SUPPLEMENTARY INFORMATION: Pursuant to section 10(a)(2) of the Federal Advisory Committee Act (Pub. L. 92-463, 5 U.S.C., Appendix 2), notice is hereby given for a Special Committee 205/EUROCAE Working Group 71 meeting. The agenda will include:

June 22

• Opening Plenary (Registration, Chair's Introductory Remarks, Review of Meeting Agenda and Agreement of Previous Minutes)

• Reports of Sub-Group Activity

• Other Committee/Other Documents Interfacing Personnel Reports (CAST, Unmanned Aircraft Systems, Security, WG-63/SAE S-18)

• Sub-Group Break Out Sessions

• New Member Introduction Session

• Sub-Group Break Out Sessions

• CAST Meeting

• Closing Plenary Session: Text Acceptance (for papers posted, commented on and reworked prior to Plenary)

• Executive Committee and SG Chairs/Secretaries Meeting

June 23

• Sub-Group Break Out Sessions

• Sub-Group Break Out Sessions

• IP submittals due for Wednesday Plenary

• Sub-Group Break Out Sessions

• Mandatory Paper Reading Session

• Executive Committee and SG Chairs/Secretaries Meeting

June 24

• IP Comment Reply & Sub-Group Break Out Sessions (focused on finalising any changes to papers being presented later in the morning)

• Plenary Text Acceptance (for papers posted, commented on and reworked prior to Plenary)

• Sub-Group Break Out Sessions

• CAST Meeting (to Close of Day)

• Sub-Group Break Out Sessions

• Executive Committee and SG Chairs/Secretaries Meeting

June 25

• Sub-Group Break Out Sessions

• Sub-Group Break Out Sessions

• IP submittals due for Friday Plenary

• Plenary Session

• Mandatory Paper Reading Session

• Executive Committee and SG Chairs/Secretaries Meeting

June 26

• IP Comment Reply & Sub-Group Break Out Sessions (focused on finalising any changes to papers being presented during the morning)

• Plenary Text Approval (reworked and late posted papers—with late posted papers only being accepted if (a) the changes are very minor in nature, and (b) adequate time has been allowed for the review of the papers).

• SG1: SCWG Document Integration Sub-Group Report

• SG2: Issue & Rationale Sub-Group Report

• SG3: Tool Qualification Sub-Group Report

• SG4: Model Based Design & Verification Sub-Group Report

• SG5: Object Oriented Technology Sub-Group Report

• SG6: Formal Methods Sub-Group Report

• SG7: Special Considerations Sub-Group Report

• Closing Plenary (Any Other Business and Next Meeting Information, Closing Remarks & Meeting Adjourned)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 4, 2009.
Francisco Estrada C.,
RTCA Advisory Committee.

[FR Doc. E9-10985 Filed 5-11-09; 8:45 am]

BILLING CODE 4910-13-P